DEPARTMENT OF HEALTH AND HUMAN SERVICES

Centers for Disease Control and Prevention

Request for Nominations of Candidates To Serve on the Advisory Council for the Elimination of Tuberculosis (ACET)

The Centers for Disease Control and Prevention (CDC) is soliciting nominations for membership on ACET. The ACET consists of 10 experts in fields associated with public Health, epidemiology, immunology, infectious diseases, pulmonary disease, pediatrics, tuberculosis, microbiology, or preventive health care delivery, who are selected by the Secretary of the United State Department of Health and Human Services (HHS). ACET provides advice and recommendations to the Secretary, HHS; the Assistant Secretary of Health; and the Director, CDC, regarding program policies, strategies, objectives, and priorities; address the development and application of new technologies; provide guidance and review on CDC's Tuberculosis prevention research portfolio and program priorities; and review the extent to which progress has been made toward eliminating tuberculosis.

Nominations are being sought for individuals who have expertise and qualifications necessary to contribute to the accomplishments of the committee's objectives. Nominees will be selected based on expertise in the field of epidemiology, immunology, infectious diseases, pulmonary disease, pediatrics, tuberculosis, microbiology, preventive health care delivery, and experts in public health. Federal employees will not be considered for membership. Members may be invited to serve for four-year terms.

The next cycle of selection of candidates will begin in the Fall of 2016 for selection of potential nominees to replace members whose terms will end on June 30, 2018. Selection of members is based on candidates' qualifications to contribute to the accomplishment of ACET objectives.

The U. S. Department of Health and Human Services policy stipulates that committee membership be balanced in terms of points of view represented, and the committee's function. Appointments shall be made without discrimination on the basis of age, race, ethnicity, gender, sexual orientation, gender identity, HIV status, disability, and cultural, religious, or socioeconomic status. Nominees must be U.S. citizens, and cannot be full-time employees of the U.S. Government. Current participation on federal workgroups or prior experience serving on a federal advisory committee does not disqualify a candidate; however, HHS policy is to avoid excessive individual service on advisory committees and multiple committee memberships. Committee members are Special Government Employees, requiring the filing of financial disclosure reports at the beginning and annually during their terms. CDC reviews potential candidates for ACET membership each year, and provides a slate of nominees for consideration to the Secretary of HHS for final selection. HHS notifies selected candidates of their appointment near the start of the term in July 1, 2018, or as soon as the HHS selection process is completed. Note that the need for different expertise varies from year to year and a candidate who is not selected in one year may be reconsidered in a subsequent year.

Candidates should submit the following items. The deadline for receipt of materials for the 2017 term is October 31, 2016:

• Current curriculum vitae, including complete contact information (telephone numbers, mailing address, email address).

• At least one letter of recommendation from person(s) not employed by the U.S. Department of Health and Human Services (Candidates may submit letter(s) from current HHS employees if they wish, but at least one letter must be submitted by a person not employed by an HHS agency (e.g., CDC, NIH, FDA, etc.).

The deadline for receipts of all application materials for consideration for term beginning July 1, 2018 is due October 31, 2016 electronically or in writing, and must be postmarked by October 31, 2016.

Regular, Express or Overnight Mail to: Margie Scott-Cseh, Committee Management Specialist, NCHHSTP, CDC, 1600 Clifton Road NE., Mailstop: E07, Atlanta, GA 30329

Electronic submissions may be sent to: zkr7@cdc.gov.

Telephone and facsimile submissions cannot be accepted. Nominations may be submitted by the candidate or by the person/organization recommending the candidate.

The Director, Management Analysis and Services Office, has been delegated the authority to sign Federal Register notices pertaining to announcements of meetings and other committee management activities, for both the CDC and the Agency for Toxic Substances and Disease Registry.

Elaine L. Baker,
Director, Management Analysis and Services Office, Centers for Disease Control and Prevention.

[FR Doc. 2016-23052 Filed 9-23-16; 8:45 am]

BILLING CODE 4163-18-P